DEPARTMENT OF TRANSPORTATION

Research and Innovative Technology Administration

Agency Information Collection; Activity Under OMB Review; Confidential Close Call Reporting System

AGENCY: Research & Innovative Technology Administration (RITA), Bureau of Transportation Statistics (BTS), DOT.

ACTION: Notice.

SUMMARY: In compliance with the Paperwork Reduction Act of 1995 (44 U.S.C. 3501 et seq.), this notice announces that the Information Collection Request (ICR) described below is being forwarded to the Office of Management and Budget (OMB) for approval for renewal of information collection supporting a five-year research study that aims at improving rail safety by analyzing information on close calls and other unsafe occurrences in the rail industry. The ICR describes the nature of the information collection and its expected burden. The Federal Register notice with a 60-day comment period soliciting comments on the following collection of information was published on October 21, 2009 (74 FR 54116) and the comment period ended on December 21, 2009. The 60-day notice produced no comments.

DATES: Written comments should be submitted by February 3, 2010.

FOR FURTHER INFORMATION CONTACT: Ms. Demetra V. Collia, E-36, Room 314, Bureau of Transportation Statistics, Research and Innovative Technology Administration, 1200 New Jersey Ave., SE., Washington, DC 20590; (202) 366-1610; Fax (202) 366-3676; e-mail Demetra.Collia@dot.gov.

SUPPLEMENTARY INFORMATION: Title: Confidential Close Call Reporting System.

Type of Request: Approval to continue to collect information on close calls.

OMB Control Number: 2139-0010.

Affected Public: Workers in the railroad industry.

Number of Respondents: 4,000.

Number of Responses: 730.

Total Annual Burden: 365.00 hours (Average estimate of 30 minutes to complete the C³RS Close Call form and employee survey, resulting in a total of 365.00 hours).

Abstract: Collecting data on the nation's transportation system is an important component of BTS's responsibility to the transportation community and is authorized in BTS statutory authority (49 U.S.C. 111(c)(1) and (2) and 49 U.S.C. 111(c)(5)(j)). The Federal Railroad Administration (FRA) and BTS share a common interest in promoting rail safety based on better data. To that end, FRA's Office of Research and Development is sponsoring the Confidential Close Call Reporting System (C³RS) Demonstration Project to investigate the effectiveness of such system in improving rail safety.

A close call represents a situation in which an ongoing sequence of events was stopped from developing further, preventing the occurrence of potentially serious safety-related consequences. This might include the following: (1) Events that happen frequently, but have low safety consequences; (2) events that happen infrequently but have the potential for high consequences (e.g., a train in dark territory proceeds beyond its authority); (3) events that are below the FRA reporting threshold (e.g., an event that causes a minor injury); and (4) events that are reportable to FRA but have the potential for a far greater accident than the one reported (e.g., a slow speed collision with minor damage to the equipment and no injuries.)

Employees involved in a close call are asked to provide information about the reported event by filling out a questionnaire and participating in a brief interview, as needed. The close call reporting form (questionnaire) asks the respondent to provide information on: (1) Name and contact information; (2) time and location of the incident; (3) a short description of the event; (4) contributing factors to the close call; and (5) any other information that might be useful in determining a root cause of such event.

BTS collects close call reports submitted by railroad employees and protects the confidentiality of these data through its own statute (49 U.S.C. 111(i)) and the Confidential Information Protection and Statistical Efficiency Act of 2002 (CIPSEA). Accordingly, only statistical and non-sensitive information will be made available through publications and reports. In addition, BTS is developing an analytical database containing the reported data and other pertinent information to determine root causes of frequently reported close calls. The database is a valuable tool to railroad carriers and the FRA in their effort to identify safety issues and provide corrective measures before an accident occurs.

Voluntary reporting of close calls to a confidential system can provide a tool to identify and correct weaknesses in railroad safety systems before an accident actually occurs. The C³RS demonstration project offers a voluntary, cooperative, non-punitive environment to communicate safety concerns. Through the analysis of close calls, the FRA and the railroad community receive information about factors that may contribute to unsafe events and the error recovery mechanisms that prevented an adverse consequence from occurring. Such information is used to develop new training programs, identify root causes of potentially adverse events, assess risk and allocate resources to address those risks more efficiently. In addition, the database provides rail safety researchers with valuable information regarding precursors to safety risks and contributes to research and development of intervention programs aimed at preventing accidents and fatalities.

It is estimated that close call reporting will take no more than 30 minutes to complete for a maximum total burden of 365.00 hours (730 reports * 30 minutes/60 = 365.00 hours). Reports are submitted when there is a qualifying event, i.e., a close call occurs within a pilot site. The frequency of such event is estimated to be approximately two per day.

ADDRESSES: The agency seeks public comments on its proposed information collection. Comments should address whether the information will have practical utility; the accuracy of the agency's estimate of the burden of the proposed information collection; ways to enhance the quality, utility and clarity of the information to be collected; and ways to minimize the burden of the collection of information on respondents, including the use of automated collection techniques or other forms of information technology. Send comments to the Office of Information and Regulatory Affairs, Office of Management and Budget, 725-17th Street, NW., Washington, DC 20503, Attention: BTS Desk Officer.

Issued in Washington, DC on December 28, 2009.
Steven D. Dillingham,
Director, Bureau of Transportation Statistics, Research and Innovative Technology Administration.

[FR Doc. E9-31135 Filed 12-31-09; 8:45 am]

BILLING CODE 4910-HY-P